DEPARTMENT OF LABOR

Bureau of Labor Statistics

Proposed Collection, Comment Request

ACTION: Notice.

SUMMARY: The Department of Labor, as part of its continuing effort to reduce paperwork and respondent burden, conducts a pre-clearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. The Bureau of Labor Statistics (BLS) is soliciting comments concerning the proposed reinstatement of the “BLS GREEN TECHNOLOGIES AND PRACTICES SURVEY.” A copy of the proposed information collection request (ICR) can be obtained by contacting the individual listed below in the ADDRESSES section of this notice.

DATES: Written comments must be submitted to the office listed in the ADDRESSES section of this notice on or before July 10, 2012.

ADDRESSES: Send comments to Carol Rowan, BLS Clearance Officer, Division of Management Systems, Bureau of Labor Statistics, Room 4080, 2 Massachusetts Avenue NE., Washington, DC 20212. Written comments also may be transmitted by fax to 202-691-5111 (this is not a toll free number).

FOR FURTHER INFORMATION CONTACT: Carol Rowan, BLS Clearance Officer, at 202-691-7628 (this is not a toll free number). (See ADDRESSES section.)

SUPPLEMENTARY INFORMATION:

I. Background

The Occupational Employment Statistics (OES) program has been funded to collect and produce objective and reliable information on occupational employment and wages for green jobs at the establishment level. This is to be conducted through a special employer survey. This work is necessary to meet the publication objective outlined in the FY2012 Congressional Appropriation.

The Bureau of Labor Statistics (BLS) presented its approach to measuring green jobs and published its final definition of green jobs in the September 21, 2010, Federal Register (75 FR 57506). The measurement approach includes two surveys: One on jobs related to producing green goods and services, and one on jobs related to using environmentally friendly production processes and practices.

The latter approach will be accomplished through a special employer survey. This information collection request is for the Green Technologies and Practices (GTP) Survey. This survey includes collecting the current employment for the establishment; collecting information on the use of environmentally friendly production processes within the establishment; and collecting the number, occupation, and wages paid to employees of the establishment performing environmentally friendly activities.

II. Current Action

Office of Management and Budget clearance is being sought for a reinstatement of the “BLS Green Technologies and Practices Survey.” The goal of BLS and its OES program is to produce economic statistics on employment related to the use of environmentally friendly technologies and practices across the U.S. economy. Using its business establishment register, the OES program intends to survey establishments about these green activities and the associated employment. The survey will identify employers performing green activities, determine whether they have any employees performing tasks associated with these activities, gather information to classify those employees according to the Standard Occupational Classification (SOC) system, and collect wage rate information.

III. Desired Focus of Comments

The Bureau of Labor Statistics is particularly interested in comments that:

• Evaluate whether the proposed collection of information is necessary for the proper performance of the functions of the agency, including whether the information will have practical utility.

• Evaluate the accuracy of the agency's estimate of the burden of the proposed collection of information, including the validity of the methodology and assumptions used.

• Enhance the quality, utility, and clarity of the information to be collected.

• Minimize the burden of the collection of information on those who are to respond, including through the use of appropriate automated, electronic, mechanical, or other technological collection techniques or other forms of information technology, e.g., permitting electronic submissions of responses.

Type of Review: Reinstatement.

Agency: Bureau of Labor Statistics.

Title: BLS Green Technologies and Practices Survey.

OMB Number: 1220-0184.

Affected Public: Private sector businesses or other for-profits and not-for-profit institutions; small businesses or organizations; Federal, State, and local governments.

Total Respondents: 26,251.

Frequency: One time.

Total Responses: 26,251.

Average Time per Response: 30 minutes.

Estimated Total Burden Hours:

GTP: Fiscal Year 2012
| Responses | Average response time (minutes) | Total response time (hours)
Private sector establishments | 22,103 | 30 | 11,052
Local government establishments | 2,738 | 30 | 1,369
State government establishments | 870 | 30 | 435
Federal government establishments | 540 | 30 | 270
Total | 26,251 |  | 13,126

Total Burden Cost (capital/startup): $0.

Total Burden Cost (operating/maintenance): $0.

Comments submitted in response to this notice will be summarized and/or included in the request for Office of Management and Budget approval of the information collection request; they also will become a matter of public record.

Signed at Washington, DC, this 4th day of May 2012.
Kimberley Hill,
Chief, Division of Management Systems, Bureau of Labor Statistics.

[FR Doc. 2012-11348 Filed 5-10-12; 8:45 am]

BILLING CODE 4510-24-P